DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before October 22, 2001.

ADDRESS COMMENTS TO: Records Center, Research and Special Programs Administration, U.S. Department of Transportation; Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590; or at http://dms.dot.gov.

This notice of receipt of applications for new exemptions is published in accordance with Part 107 of the Federal hazardous materials transportation law (49 U.S.C. 5117(b); 49 CFR 1.53(b)).

Issued in Washington, DC, on September 14, 2001.
R. Ryan Posten,
Exemptions Program Officer, Office of Hazardous Materials Exemptions and Approvals.

New Exemptions
Application No. | Docket No. | Applicant | Regulation(s) affected | Nature of exemption thereof
12815-N | RSPA-01-10553 | FMC Corporation, Opelousas, LA | 49 CFR 173.240 | To authorize the transportation in commerce of waste toxic solids, n.o.s., Division 6.1 in bulk non-specification packaging (sift-proof closed vehicles or closed bulk bins.) (mode 1).
12816-N | RSPA-01-10544 | Department of Defense (DOD) Alexandria, VA | 49 CFR 173.433 | To authorize the transportation in commerce of radioactive material, Class 7 in specially designed packaging. (modes 1, 2).
12819-N | RSPA-01-10549 | BBI-Biotech Research Laboratories, Inc., Gaithersburg, MD | 49 CFR 173.196, 178.609 | To authorize the transportation in commerce of certain infectious substances in specially designed packaging. (mode 1).
12820-N | RSPA-01-10550 | Trinity Manufacturing Hamlet, NC | 49 CFR 173.227(c) | To authorize the transportation in commerce of chloropicrin, 6.1, poison inhalation hazard, Hazard Zone B and chloropicrin mixtures in 1A1 drums in an alternative stacking position. (mode 1).
12821-N | RSPA-1- | Environmental Packaging Technologies, Inc. Atkinson, NH | 49 CFR 173.12(b)(2)(I), 173.240-243 | To authorize the manufacture, marking, sale and use of certain UN 11G Intermediate Bulk Containers (cubic yard boxes) for use as the outer packaging for paint and paint related material in HMR. (mode 1).
12823-N | RSPA-01-10537 | Eastman Kodak Company, Rochester, NY | 49 CFR 174.67(i) & (j) | To authorize rail cars containing Class 3 and Class 9 hazardous materials to remain standing while connected without the physical presence of an unloader. (mode 2).
12825-N | RSPA-01-10535 | United States Marine Safety Association, Colorado Springs, CO | 49 CFR 173.301(i) | To authorize the transportation of foreign life rafts equipped with non-DOT specification cylinders, (mode 1).
12826-N | RSPA-01-10547 | Environmental Packaging Technologies, Inc., Atkinson, NH | 49 CFR 173.12(b)(2)(i) | To authorize the manufacture, marking, sale and use of certain UN 11G intermediate bulk containers (cubic yard boxes) for use as the outer packaging for paint and paint related material. (mode 1).
12827-N | RSPA-01-10586 | Department of Energy (DOE), Washington, DC | 49 CFR 172.101, 173.56 | To authorize the transportation in commerce of limited quantities of forbidden explosives by exclusive use motor vehicle in specially designed bomb proof trailers. (mode 1).

[FR Doc. 01-23431 Filed 9-19-01; 8:45 am]

BILLING CODE 4910-60-M